DEPARTMENT OF COMMERCE

National Oceanic and Atmospheric Administration

RIN 0648-XG78

Atlantic Coastal Fisheries Cooperative Management Act Provisions; Tautog Fishery

AGENCY: National Marine Fisheries Service (NMFS), National Oceanic and Atmospheric Administration (NOAA), Commerce.

ACTION: Notice of cancellation of Federal moratorium.

SUMMARY: NMFS announces the cancellation of the Federal moratorium on fishing for tautog in the State waters of New Jersey. NMFS canceled the moratorium, as required by the Atlantic Coastal Fisheries Cooperative Management Act (Atlantic Coastal Act), based on the determination that New Jersey is now in compliance with the Atlantic States Marine Fisheries Commission's (Commission) Tautog Interstate Fishery Management Plan (Plan).

DATES: Effective March 31, 2008.

ADDRESSES: Harold C. Mears, Director, State, Federal and Constituent Programs Office, NMFS, Northeast Region, One Blackburn Drive, Gloucester, MA 01930.

FOR FURTHER INFORMATION CONTACT: Bob Ross, Fishery Management Specialist, NMFS, Northeast Region, (978) 281-9327, fax (978) 281-9117, e-mail Bob.Ross@noaa.gov.

SUPPLEMENTARY INFORMATION:

Background

Tautog (Tautoga onitis), often known by the common name “blackfish,” is a coastal fish species ranging from Nova Scotia to South Carolina, but most abundant from the southern Gulf of Maine (lower Massachusetts Bay and southern Cape Cod Bay) to Chesapeake Bay. The Commission manages this species according to its Tautog Plan. The Commission's Tautog Plan can be located at http://www.asmfc.org, (select “Interstate Fishery Management,” then select “Tautog.”).

On February 7, 2008, the Commission voted the State of New Jersey out of compliance with the Commission's Tautog Plan. Specifically, the Commission found that New Jersey had not implemented management measures to achieve the required 25.6 percent reduction in tautog exploitation as was required by the Tautog Plan. The Commission forwarded the findings of their vote on February 7, 2008, in a formal non-compliance referral letter that the Secretary of Commerce (Secretary) received on February 11, 2008.

On March 10, 2008, upon a delegation of authority from the Secretary, NMFS completed its independent review of the Commission's findings and NMFS determined that the State of New Jersey was not in compliance with the Commission's Tautog Plan and that the measures New Jersey failed to implement and enforce are necessary for the conservation of the tautog fishery. New Jersey was notified by letter on March 11, 2008, that NMFS declared a Federal moratorium on fishing for, possession of, and landing of tautog by the recreational and commercial fishermen in New Jersey state waters effective April 1, 2008, if New Jersey has not complied with the Commission's Tautog Plan by that date. Details were provided in a Federal Register notice published on March 14, 2008 (73 FR 13864), and are not repeated here.

Activities Pursuant to the Atlantic Coastal Act

The Atlantic Coastal Act specifies that, if, after a moratorium is declared with respect to a State, the Secretary is notified by the Commission that it is withdrawing the determination of noncompliance, the Secretary shall immediately determine whether the State is in compliance with the applicable plan. If the state is determined to be in compliance, the moratorium shall be terminated. On March 26, 2008, NMFS received a letter from the Commission that New Jersey has taken corrective action to comply with the Tautog Plan, and that the Commission has withdrawn its determination of noncompliance.

Cancellation of the Moratorium

Based on the Commission's March 26, 2008, letter, information received from the State of New Jersey, and NMFS review of New Jersey's revised tautog regulations, which achieved the required 25.6-percent reduction in tautog exploitation as was required by the Tautog Plan, NMFS concurs with the Commission's determination that New Jersey is now in compliance with the Tautog Plan. Therefore, the moratorium on fishing for, possession of, and landing of tautog by the recreational and commercial fishermen within New Jersey waters is canceled.

Authority: 16 U.S.C. 5101 et seq.

Dated: March 31, 2008.
James W. Balsiger,
Acting Assistant Administrator for Fisheries, National Marine Fisheries Service.

[FR Doc. 08-1090 Filed 3-31-08; 3:59 pm]

BILLING CODE 3510-22-S